DEPARTMENT OF ENERGY

Federal Energy Regulatory Commission

[Docket No. AD09-11-000]

Natural Gas Infrastructure and Opportunities for Improved Efficiency; Notice of Conference Postponement

November 2, 2009.

Take notice that the public conference referenced in the above docket and initially noticed on September 21, 2009 will be postponed until January. Once the conference is rescheduled, a subsequent scheduling notice will be issued.

For more information about the conference or any questions, please contact Pamela Romano at (202) 502-6854 (pamela.romano@ferc.gov).

Kimberly D. Bose,
Secretary.

[FR Doc. E9-26889 Filed 11-6-09; 8:45 am]

BILLING CODE 6717-01-P